DEPARTMENT OF TRANSPORTATION

Federal Aviation Administration

Notice of Intent To Rule on Request To Release Airport Property at the Shafter-Minter Field Airport, Shafter, CA

AGENCY: Federal Aviation Administration (FAA), DOT.

ACTION: Notice of request to release airport property.

SUMMARY: The FAA proposes to rule and invite public comment on the release of land at the Shafter-Minter Field Airport under the provisions of section 125 of the Wendell H. Ford Aviation Investment Reform Act for the 21st Century (AIR 21).

DATES: Comments must be received on or before April 10, 2008.

ADDRESSES: Comments on this application may be mailed or delivered to the FAA at the following address: Mr. Brian Armstrong, Manager, Federal Aviation Administration, Los Angeles Airports District Office, LAX-600, 15000 Aviation Blvd., Lawndale, CA 90261. In addition, one copy of any comments submitted to the FAA must be mailed or delivered to Dana Mulder, President, Board of Directors, Minter Field Airport District, at the following address: Shafter Airport/Minter Field, 201 Aviation Street, Shafter, CA 93263.

FOR FURTHER INFORMATION CONTACT: Mr. Brian Armstrong, Manager, Federal Aviation Administration, Los Angeles Airports District Office, LAX-600, 15000 Aviation Blvd., Lawndale, CA 90261, Telephone: (310) 725-3644, e-mail: Brian.Armstrong@faa.gov, fax: (310) 725-6810. The request to release property may be reviewed in person at this same location.

SUPPLEMENTARY INFORMATION: The FAA invites public comment on the request to release property at the Shafter-Minter Field Airport under the provisions of the AIR 21. The following is a brief overview of the request:

The Minter Field Airport District, the owner of Shafter-Minter Field Airport requests the release of certain land to enable the exchange of that land for other property contiguous to airport property. The land identified for release consists of approximately 44.7 acres located north of Lerdo Highway and west of the Friant Kern Canal. The Friant Kern Canal is an open canal located on an easement that has existed since the property was owned by the Federal government. The canal physically separates the subject property from the remainder of the airport. The property to be acquired consists of approximately 32 acres located contiguous to the previous eastern boundary of the airport, north of Lerdo Highway and east of State Highway 99. Appraisals of the two parcels were completed in 1993 and again in 2000. In 2000, the Kern County General Services Administration concluded that the market value of property being released was $745,000. The value of the property acquired was $816,000. Based on this information, the Minter Field Airport District and Shafter-Minter Field Airport benefited from the exchange as a result of the higher property value of the land acquired.

Any person may inspect the request in person at the FAA office listed above under FOR FURTHER INFORMATION CONTACT. In addition, any person may, upon request, inspect the application, notice and other documents relevant to the application in person at the Shafter-Minter Field Airport, telephone number (805) 393-0402.

Issued in Los Angeles, California on February 27, 2008.
Mark McClardy,
Manager, Airports Division.

[FR Doc. E8-4520 Filed 3-10-08; 8:45 am]

BILLING CODE 4910-13-M